NATIONAL AERONAUTICS AND SPACE ADMINISTRATION

[Notice (01-009)]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing.

DATES: January 22, 2001.

FOR FURTHER INFORMATION CONTACT: Michael Gomet, Patent Attorney, Goddard Space Flight Center, Mail Code 750.2, Greenbelt, MD 20771; 301-286-6521.

NASA Case No. GSC-13913-1: Sol-Gel Processing to Form Doped Sol-Gel Monoliths Inside Hollow Core Optical Fiber and Sol-Gel Core Fiber Devices Made Thereby;

NASA Case No. GSC-13988-1: Combination Radial and Thrust Magnetic Bearings; NASA Case No. GSC-14240-1: Methods and Systems for Collecting Data from Multiple Fields of View;

NASA Case No. GSC-14302-1: Three Dimensional Empirical Mode Decomposition Analysis Apparatus and Method.

Dated: January 11, 2001.
Edward A. Frankle,
General Counsel.

[FR Doc. 01-1769 Filed 1-19-01; 8:45 am]

BILLING CODE 7510-01-U